DEPARTMENT OF HEALTH AND HUMAN SERVICES

Centers for Medicare & Medicaid Services

42 CFR Parts 412 and 413

[CMS-1306-CN]

RIN 0938-AN82

Medicare Program; Inpatient Psychiatric Facilities Prospective Payment System Payment Update for Rate Year Beginning July 1, 2006 (RY 2007); Correction and Extension of Comment Period

Correction

In proposed rule document E6-2607 beginning on page 9505 in the issue of Friday, February 24, 2006, make the following correction:

On page 9505, in the third column, under the DATES heading, in the third line, “April 25, 2006” should read “April 7, 2006”.

[FR Doc. Z6-2607 Filed 3-2-06; 8:45 am]

BILLING CODE 1505-01-D